Title 3—

The President

Proclamation 10482 of October 27, 2022

National First Responders Day, 2022

By the President of the United States of America

A Proclamation

On National First Responders Day, we honor the bravery of our Nation's heroes who put their lives on the line for their fellow Americans each and every day—from law enforcement officers who keep our streets safe and firefighters who rush into burning buildings, to relief workers who care for our families after natural disasters and EMTs, paramedics, and other public health workers who provide life-saving emergency care at a moment's notice. When tragedies strike, these women and men are always there to help us, and we thank them for their extraordinary service to our country.

I have witnessed up close the courage, character, and valor of first responders across the Nation. In Florida, Puerto Rico, and Kentucky, search and rescue teams swooped in to save lives in the aftermath of Hurricanes Ian and Fiona and historic flooding. In Idaho, Colorado, New Mexico, and California, firefighters battled raging wildfires, even when some of their own homes had been destroyed. In Buffalo, New York, a retired police officer lost his life protecting his community from a mass shooter. Living a life of service and sacrifice is not just what first responders do—it is who they are.

We ask more of our first responders today than ever before. Being a police officer not only means keeping our communities safe but also acting as a counselor and a social worker. Being a firefighter means not only combatting fires in homes and businesses but also suiting up to fight raging wildfires made more frequent and ferocious by the climate crisis. Throughout the pandemic, medical teams and community health workers have been on the frontlines, working around the clock to save lives. Yet, even when first responders are stretched thin, their courage and commitment to service never wavers.

That is why my Administration's American Rescue Plan committed over $10 billion in funds for public safety and violence prevention, including billions of dollars to recruit and retain first responders, avoid public safety layoffs, and purchase emergency vehicles and other equipment to keep our communities safe. We increased Federal funding for State and local law enforcement by almost 30 percent last year. With my Safer America Plan, I am asking the Congress for additional funding to provide our law enforcement officers with more mental health and wellness resources and to recruit and hire 100,000 more police officers who are trained in safe, effective, and accountable community policing. When it comes to strengthening public safety, the answer is not to defund the police: It is to provide them with the tools, training, and support they need to fight crime and build trust with the communities they are sworn to protect.

The same goes for fighting fires, which is why I, in partnership with the Congress, substantially increased wages for Federal wildland firefighters, implemented new programs to support their mental and physical health, and created a wildland firefighter job series to improve recruitment, retention, and professional opportunities. The American Rescue Plan and the 2023 Budget include combined increases of $320 million for Federal firefighting grants, helping to fund 1,200 more local firefighters, hundreds more emergency response vehicles, and thousands of protective gear sets. In addition, I signed into law the Protecting America's First Responders Act, reducing red tape for firefighters and other first responders with disabilities to qualify for critical benefits and extending benefits to surviving families of firefighters who lost their lives in training. Because cancer is a leading cause of death among firefighters, my Administration created a special unit at the Department of Labor to help process cancer claims, and I am calling on the Congress to pass the Federal Firefighters Fairness Act to ensure cancer patients and their families get the compensation they deserve.

Today and every day, America's first responders remain on alert and on call, always there for us when we need them. As we celebrate these patriots who have answered the call of duty, we honor the memory of the heroes we have lost. They are woven into the fabric of our national character—embodying the extraordinary selflessness, rare commitment to others, and remarkable bravery that has inspired us for generations. Our first responders remind us that we are a great country because we are made up of good people. Let us renew our commitment as a Nation to standing by them and their families just as they stand by us, shaping a stronger, safer, and more resilient America.

NOW, THEREFORE, I, JOSEPH R. BIDEN JR., President of the United States of America, by virtue of the authority vested in me by the Constitution and the laws of the United States, do hereby proclaim October 28, 2022, as National First Responders Day. I call upon all the people of the United States to observe this day with appropriate programs, ceremonies, and activities to honor our brave first responders and to pay tribute to those who have lost their lives in the line of duty.

IN WITNESS WHEREOF, I have hereunto set my hand this twenty-seventh day of October, in the year of our Lord two thousand twenty-two, and of the Independence of the United States of America the two hundred and forty-seventh.

[FR Doc. 2022-23853

Filed 10-31-22; 8:45 am]

Billing code 3395-F3-P